DEPARTMENT OF STATE

[Public Notice 8169]

Easing the Ban on Imports From Burma

SUMMARY: The Deputy Secretary of State has determined, pursuant to authority delegated by the Secretary of State, that it is in the national interests of the United States to waive the prohibitions described in section 3(a) of the Burmese Freedom and Democracy Act of 2003 (Pub. L. 108-61), as amended (“BFDA”), which requires the President to prohibit the importation of any article that is a product of Burma into the United States, and which the President implemented in section 3 of Executive Order 13310 (July 28, 2003). In conjunction with this waiver determination, the Department of the Treasury's Office of Foreign Assets Control issued General License (No. 18) on November 16, 2012 authorizing imports into the United States of any article that is a product of Burma, subject to limitations set forth therein.

This step is in the national interest of the United States because it supports those in the Burmese government that have instituted important reforms since early 2011 and encourages the government to make further progress. The waiver of the import ban responds to the Government of Burma's continued reforms and efforts to address U.S. core concerns, including the release of political prisoners, and other steps on human rights and national reconciliation.

DATES: Effective Date: November 15, 2012.

FOR FURTHER INFORMATION CONTACT: John Marshall Klein, Senior Sanctions Officer, Economic & Business Affairs, Office of Sanctions Policy and Implementation, 202-647-9452.

Dated: January 16, 2013.
Jose W. Fernandez,
Assistant Secretary for Economic and Business Affairs, Department of State.

[FR Doc. 2013-01991 Filed 1-29-13; 8:45 am]

BILLING CODE 4710-07-P